FEDERAL COMMUNICATIONS COMMISSION

47 CFR Part 73

[DA 06-728; MB Docket No. 05-31; RM-11150]

Radio Broadcasting Services; Paint Rock, TX

AGENCY: Federal Communications Commission.

ACTION: Final rule.

SUMMARY: This document grants a petition filed by Charles Crawford requesting the allotment of Channel 296C3 at Paint Rock, Texas, as the community's first local aural transmission service. See SUPPLEMENTARY INFORMATION.

DATES: Effective May 15, 2006.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 05-31, adopted March 29, 2006, and released March 31, 2006. The full text of this Commission decision is available for inspection and copying during normal business hours in the Commission's Reference Center 445 Twelfth Street, SW., Washington, DC 20554. The complete text of this decision may also be purchased from the Commission's duplicating contractor, Best Copy and Printing, Inc., 445 12th Street, SW., Room CY-B402, Washington, DC 20054, telephone 1-800-378-3160 or http://www.BCPIWEB.com. The Commission will send a copy of this Report and Order in a report to be sent to Congress and the Government Accountability Office pursuant to the Congressional Review Act, see 5 U.S.C. 801(a)(1)(A).

Channel 296C3 can be allotted to Paint Rock in compliance with the Commission's rules provided there is a site restriction of 15 kilometers (9.3 miles) east of the community at coordinates 31-31-15 North Latitude and 99-45-45 West Longitude. See 70 FR 8559, published February 22, 2005. The Paint Rock allotment is located within 320 kilometers (199 miles) of the U.S.-Mexican border. Although concurrence has been requested for Channel 296C3 at Paint Rock, notification has not been received. If a construction permit is granted prior to the receipt of formal concurrence in the allotment by the Mexican government, the construction permit will include the following condition: “Operation with the facilities specified for Paint Rock herein is subject to modification, suspension or, termination without right to hearing, if found by the Commission to be necessary in order to conform to the 1992 USA-Mexico FM Broadcast Agreement.” or if specifically objected to by Mexico's Secretaria de Comunicaciones Y Transportes.”

To accommodate the Paint Rock allotment, this document also relocates the reference coordinates for vacant FM Channel 296C2 at Big Lake, Texas, which requires a site restriction of 24.1 kilometers (15.0 miles) southwest of the community at coordinates 31-02-00 NL and 101-38-00 WL. This new site for vacant Channel 296C2 at Big Lake is located within 320 kilometers (199 miles) of the U.S.-Mexican border. Although concurrence has been requested for Channel 296C2 at Big Lake, notification has not been received. If a construction permit is granted prior to the receipt of formal concurrence in the allotment by the Mexican government, the construction permit will include the following condition: “Operation with the facilities specified for Big Lake herein is subject to modification, suspension or, termination without right to hearing, if found by the Commission to be necessary in order to conform to the 1992 USA-Mexico FM Broadcast Agreement.” or if specifically objected to by Mexico's Secretaria de Comunicaciones Y Transportes.”

List of Subjects in 47 CFR Part 73

Radio, Radio broadcasting.

Part 73 of Title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Texas, is amended by adding Paint Rock, Channel 296C3.

Federal Communications Commission.
John A. Karousos,
Assistant Chief, Audio Division, Media Bureau.

[FR Doc. 06-3905 Filed 4-25-06; 8:45 am]

BILLING CODE 6712-01-P